DEPARTMENT OF ENERGY

Federal Energy Regulatory Commission

Combined Notice of Filings

Take notice that the Commission has received the following Natural Gas Pipeline Rate and Refund Report filings:

Docket Numbers: RP21-736-000.

Applicants: WBI Energy Transmission, Inc.

Description: § 4(d) Rate Filing: 2021 List of Non-Conforming Service Agreements to be effective 5/17/2021.

Filed Date: 4/15/21.

Accession Number: 20210415-5143.

Comments Due: 5 p.m. ET 4/27/21.

Docket Numbers: RP21-737-000.

Applicants: Texas Eastern Transmission, LP.

Description: § 4(d) Rate Filing: Negotiated Rates—Conoco Amendments 910882 & 910662 to be effective 11/1/2020.

Filed Date: 4/15/21.

Accession Number: 20210415-5238.

Comments Due: 5 p.m. ET 4/27/21.

Docket Numbers: RP21-738-000.

Applicants: El Paso Natural Gas Company, L.L.C.

Description: Compliance filing Penalty Crediting Report for 2020.

Filed Date: 4/15/21.

Accession Number: 20210415-5245.

Comments Due: 5 p.m. ET 4/27/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 20, 2021.
Kimberly D. Bose,
Secretary.

[FR Doc. 2021-08610 Filed 4-23-21; 8:45 am]

BILLING CODE 6717-01-P